DEPARTMENT OF AGRICULTURE

Forest Service

Santa Fe National Forest, Jemex Ranger District; New Mexico; San Diego Range Allotment Permit Issuance

AGENCY: Forest Service, USDA.

ACTION: Notice of intent to prepare an Environmental Impact Statement.

SUMMARY: The U.S. Department of Agriculture, Santa Fe National Forest announces its intent to prepare an Environmental Impact Statement for Managing Cattle Grazing on the San Diego Range Allotment located on the Jemez Ranger District, New Mexico. The EIS will analyze the potential environmental impacts of managing cattle grazing on the San Diego Cattle Allotment. The EIS will be prepared pursuant to the National Environmental Policy Act (NEPA) of 1969, 42 U.S.C. 4321-4370a, and the National Forest Management Act 16 U.S.C. 1600-1614, and their respective implementing regulations.

DATES: Comments concerning the scope of the analysis must be received on or before January 13, 2003. The draft EIS is expected to be available for public review in September 2003. The final EIS is expected to be published in December 2003.

ADDRESSES: Send written comments and suggestions on the proposal, or requests to be placed on the project mailing list, to Rita Skinner, Natural Resource Coordinator, Jemez Ranger District, Santa Fe National Forest, PO Box 150, Jemez Springs, NM 87025.

FOR FURTHER INFORMATION CONTACT: Derek Padilla, Range Staff, Jemez Ranger District, at 505-829-3535.

SUPPLEMENTARY INFORMATION:

Purpose and Need for Action

There is an underlying need to: Protect non-renewable archaeological resources, minimize conflicts between recreation users and cattle during high use recreation periods, protect riparian areas, and minimize soil and vegetation impacts, while contributing to the social and economic needs associated with traditional grazing practices in Northern New Mexico. The Rescission Act of 1995 (Pub. L. 104-19), Section 504(a)(b)(c), directs the Forest Service to create and adhere to a schedule to complete NEPA for grazing activities and other related issues. In assessing this grazing allotment, the Forest Service will consider the protection of various resources within the allotment and meet the intent of the Rescission Act.

Proposed Action

The Santa Fe National Forest proposes to revise the grazing program on the San Diego Cattle Allotment to address archaeological and other resource concerns on the allotment. Grazing would be authorized through issuance of a new 10-year term grazing permit. The overall grazing system(s) currently in place would remain essentially unchanged. Approximately 2-4 miles of new fence would be constructed and eight miles of existing fence would be reconstructed. Six to eight new water developments (dirt tanks) would be constructed in upland pastures and about two miles of new pipeline and four new water troughs would be installed to address various riparian, recreation, scenery, and archaelogical objectives. The number of cattle and grazing seasons would remain essentially unchanged except for a small reduction in head months (through changing the season of use) to accommodate a one-week reduction in spring riparian area grazing.

Possible Alternatives

Alternatives include: No Action (No change from existing management)—Grazing would continue at the current level of 252 head from May 1 to November 30, 116 head from December 1 to April 30, and 12 bulls year-round. A second alternative, the Forest Service proposed action is described in the preceding paragraph. A third alternative would eliminate grazing in a pasture containing a high density of archaeological sites. A fourth alternative would eliminate cattle grazing in high use recreation areas. A fifth alternative (No Grazing) would completely eliminate cattle grazing on the allotment.

Responsible Official

John Peterson, District Ranger, Jemez Ranger District Santa Fe National Forest, P.O. Box 150, Jemez Springs, NM 87025, is the responsible official for this decision. He will document his decision in a Record of Decision.

Nature of Decision To Be Made

The District Ranger of the Jemez Ranger District will decide whether or not livestock grazing activities would be allowed to continue on the allotment, and if so, the decision will identify: the grazing seasons, the timing and duration of grazing, structural range facilities, forage utilization levels, mitigation measures, monitoring and evaluation, and the implementation schedule.

Scoping Process

A project scoping letter was distributed in 1999 to interested individuals and organizations, and was published in the Jemez Thunder newspaper. The proposed project has been listed on the Santa Fe National Forest Schedule of Proposed Projects beginning in December 1998 and as recently as December 2002. Consultation with Native American Tribes was initiated three years ago and is ongoing. Cattle grazing activities associated with this allotment were discussed in detail at public meetings and throughout the scoping and planning effort for the Jemez National Recreation Area, which overlaps this allotment.

Preliminary Issues

Heritage Resources (Archaeology)—Heritage resources has been identified as a key issue. This allotment contains high concentrations of significant archaeological sites. Cattle trailing through sites, congregating, bedding down, trampling, rubbing against standing features, etc. can result in adverse effects to sites including long-term cumulative impacts. The proposed action and alternatives 3 and 5 address this issue to varying degrees. Other issues include:

Recreation—A portion of this allotment is within the Jemez National Recreation Area. The presence of cattle in popular dispersed recreation areas can disrupt the recreational and scenic enjoyment for some visitors to the area. The proposed action and alternatives 4 and 5 address this issue to varying degrees.

Riparian, Water, Fish habitat—Cattle grazing, permittee vehicle use, gathering, and trailing of cattle may affect riparian areas by slowing the rate of recovery of these areas. These same activities may affect water quality and aquatic habitat, particularly when combined with impacts associated with a high level of dispersed recreation use. The proposed action and alternatives 4 and 5 address this issue to varying degrees.

Permits or Licenses Required

Livestock grazing on National Forest System lands is authorized under FSM 2230.

Comment Requested

This notice of intent initiates the scoping process, which guides the development of the environmental impact statement.

Early Notice of Importance of Public Participation in Subsequent Environmental Review: A draft environmental impact statement will be prepared for comment. The comment period on the draft environmental impact statement will include a minimum of 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: November 27, 2002.
John F. Peterson,
District Ranger, Jemez Ranger District.

[FR Doc. 02-30805 Filed 12-4-02; 8:45 am]

BILLING CODE 3410-11-M